DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the United States Department of Agriculture (USDA) Rural Development administers rural utilities programs through the Rural Utilities Service (RUS). The USDA Rural Development invites comments on the following information collections for which the Agency intends to request approval from the Office of Management and Budget (OMB).

DATES: Comments on this notice must be received by July 3, 2012.

FOR FURTHER INFORMATION CONTACT: Michele Brooks, Director, Program Development and Regulatory Analysis, USDA Rural Development, 1400 Independence Ave. SW., STOP 1522, Room 5162, South Building, Washington, DC 20250-1522. Telephone: (202) 690-1078. Fax: (202) 720-8435.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities [see 5 CFR 1320.8(d)]. This notice identifies information collections that RUS is submitting to OMB for extension.

Comments are invited on: (a) Whether this collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on respondents, including through the use of appropriate automated, electronic, mechanical or other technological collection techniques or other forms of information technology. Comments may be sent to: Michele Brooks, Director, Program Development and Regulatory Analysis, USDA Rural Development, STOP 1522, 1400 Independence Ave. SW., Washington, DC 20250-1522. Fax: (202) 720-8435.

Title: Review Rating Summary, RUS Form 300, 7 CFR part 1730.

OMB Control Number: 0572-0025.

Type of Request: Extension of a currently approved collection.

Abstract: RUS manages loan programs in accordance with the RE Act of 1936, as amended (7 U.S.C. 901 et seq.). An important part of safeguarding loan security is to see that RUS financed facilities are being responsibly used, adequately operated, and adequately maintained. Future needs must be anticipated to ensure that facilities will continue to produce revenue and loans will be repaid as required by the RUS mortgage. A periodic operations and maintenance (O&M) review, using the RUS Form 300, in accordance with 7 CFR part 1730, is an effective means for RUS to determine whether the Borrowers' systems are being properly operated and maintained, thereby protecting the loan collateral. The O&M review is also used to rate facilities and can be used for appraisals of collateral as prescribed by OMB Circular A-129, Policies for Federal Credit Programs and Non-Tax Receivables.

Estimate of Burden: Public reporting for this collection of information is estimated to average 4 hours per response.

Respondents: Not-for-profit institutions.

Estimated Number of Respondents: 217.

Estimated Number of Responses per Respondent: 1.

Estimated Total Annual Burden on Respondents: 868 hours.

Title: Deferment of Rural Development Utilities Programs Loan Payments for Rural Development Projects.

OMB Control Number: 0572-0097.

Type of Request: Extension of a currently approved collection.

Abstract: The Deferment of Rural Development Utilities Programs Loan Payments for Rural Development Projects allows RUS electric and telecommunications borrowers to defer the payment of principal and interest on any insured or direct loan made under the Rural Electrification Act (RE Act) of 1936, as amended (7 U.S.C. 912). The purpose of the Deferment program is to encourage borrowers to invest in and promote rural development and rural job creation projects that are based on sound economic and financial analyses. This program is administered through 7 CFR 1703, subpart H. The burden required by this collection consists of information that will allow the Agency to determine eligibility for deferment; specific purposes of the deferment; the term of the deferment; cost of the project and degree of participation from other sources; and compliance with Agency regulations and other regulations and legal requirements.

Estimate of Burden: Public reporting for this collection of information is estimated to average 1.23 hours per response.

Respondents: Business or other for Profit and Not-for profit institutions.

Estimated Number of Respondents: 1.

Estimated Number of Responses per Respondent: 9.

Estimated Total Annual Burden on Respondents: 11 hours.

Title: State Telecommunications Modernization Plan.

OMB Control Number: 0572-0104.

Type of Request: Extension of a currently approved information collection.

Abstract: This information collection requirement stems from passage of the Rural Electrification Loan Restructuring Act (RELRA, Pub. L. 103-129) on November 1, 1993, which amended the Rural Electrification Act of 1936, 7 U.S.C. 901 et seq. (the RE Act). RELRA requires that a State Telecommunications Modernization Plan (Modernization Plan), covering at a minimum the Rural Utilities Service (RUS) borrowers in the state, be established in a state or RUS cannot make hardship or concurrent cost-of-money and Rural Telephone Bank (RTB) loans for construction in that state. It is the policy of RUS that every State has a Modernization Plan which provides for the improvement of the State's telecommunications network. A proposed Modernization plan must be submitted to RUS for approval. RUS will approve a proposed Modernization Plan if it conforms to the provisions of 7 CFR part 1751, subpart B.

Estimate of Burden: Public reporting burden for this collection of information is estimated to average 350 hours per response.

Respondents: Business or other for-profit; not-for-profit organizations.

Estimated Number of Respondents: 1.

Estimated Number of Responses per Respondent: 1.

Estimated Total Annual Burden on Respondents: 350.

Title: Mergers and Consolidations of Electric Borrowers, 7 CFR 1717, subpart D.

OMB Control Number: 0572-0114.

Type of Request: Extension of a currently approved information collection.

Abstract: The Rural Electrification Act of 1936 (7 U.S.C. 901 et seq.), as amended (RE Act) authorizes and empowers the Administrator of RUS to make and guarantee loans to furnish and improve electric service in rural areas. Due to deregulation and restructuring activities in the electric industry, RUS borrowers find it advantageous to merge or consolidate to meet the challenges of industry change. This information collection addresses the requirements of RUS policies and procedures for mergers and consolidations of electric program borrowers.

Estimate of Burden: Public reporting burden for this collection of information is estimated to average 1.32 hours per response.

Respondents: Businesses or other for profits; not-for-profit institutions.

Estimated Number of Respondents: 12.

Estimated Number of Responses per Respondent: 10.8.

Estimated Total Annual Burden on Respondents: 170.

Title: Use of Consultants Funded by Borrowers, 7 CFR part 1789.

OMB Control Number: 0572-0115.

Type of Request: Extension of a currently approved collection.

Abstract: Section 18(c) of the Rural Electrification Act of 1936 (RE Act), as amended (7 U.S.C. 901 et seq.) authorizes RUS to utilize consultants voluntarily funded by Borrowers for financial, legal, engineering and other technical services. Consultants may be utilized to facilitate timely action on loan applications submitted to RUS by Borrowers for financial assistance and for approvals required by RUS, pursuant to the terms of outstanding loans, or otherwise. RUS may not require Borrowers to fund consultants and the provision of section 18(c) may be utilized only at the Borrower's request. The collection of information from the Borrower allows RUS to evaluate the request and to implement RUS policies and procedures for the use of consultants funded by RUS Borrowers. The collection of information is required only when a Borrower submits a request for the services of a consultant and consists of a summary, project description and information concerning the project or proposal for which the Borrower is requesting consultant services.

Estimate of Burden: The public reporting burden for this collection of information is estimated to average 2 hours per response.

Respondents: Not-for-profit institutions; business or other for-profit entities.

Estimated Number of Respondents: 1.

Estimated Number of Responses per Respondent: 1.

Estimated Total Annual Burden on Respondents: 2 hours.

Title: Extensions of Payments of Principal and Interest.

OMB Control Number: 0572-0123.

Type of Request: Extension of a currently approved information collection.

Abstract: This collection of information describes information procedures which borrowers must follow in order to request extensions of principal and interest. Authority for these is contained in section 12 of the Rural Electrification Act of 1936 (REAct), as amended and in section 236 of the “Disaster Relief Act of 1970'' (Pub. L. 91-606), as amended by the Department of Agriculture Reorganization Act of 1994 (Pub. L. 103-354). Eligible purposes include financial hardship, energy resource conservation (ERC) loans, renewable energy projects, distributed generation projects, and contribution-in-aid of construction. These procedures are codified at 7 CFR part 1721, subpart B.

Estimate of Burden: Public reporting for this collection of information is estimated to average 4.71 hours per response.

Respondents: Not-for-profit institutions.

Estimated Number of Respondents: 45.

Estimated Number of Responses per Respondent: 2.

Estimated Total Annual Burden on Respondents: 424 hours.

Title: 7 CFR 1728, Electric Standards and Specifications for Materials and Construction.

OMB Control Number: 0572-0131.

Type of Request: Extension of a currently approved collection.

Abstract: RUS provides loans and loan guarantees in accordance with the Rural Electrification Act of 1936, 7 U.S.C. 901 et seq., as amended, (RE Act). Section 4 of the RE Act requires that the Agency make or guarantee a loan only if there is reasonable assurance that the loan, together with all outstanding loans and obligations of the Borrower, will be repaid in full within the time agreed. In order to facilitate the programmatic interests of the RE Act and, in order to assure that loans made or guaranteed by the Agency are adequately secure, RUS, as a secured lender, has established certain standards and specifications for materials, equipment, and the construction of electric systems. The use of standards and specifications for materials, equipment and construction units helps assure the Agency that: (1) Appropriate standards and specifications are maintained; (2) RUS loan security is not adversely affected, and; (3) Loan and loan guarantee funds are used effectively and for the intended purposes. 7 CFR part 1728 establishes Agency policy that materials and equipment purchased by RUS Electric Borrowers or accepted as contractor-furnished material must conform to Agency standards and specifications where established and, if included in RUS Publication IP 202-1, “List of Materials Acceptable for Use on Systems of Agency Electrification Borrowers” (List of Materials), must be selected from that list or must have received technical acceptance from RUS.

Estimate of Burden: This collection of information is estimated to average 20 hours per response.

Respondents: Businesses or other for profits.

Estimated Number of Respondents: 38.

Estimated Number of Responses per Respondent: 2.63.

Estimated Total Annual Burden on Respondents: 2,000 hours.

Dated: April 26, 2012
Jonathan Adelstein,
Administrator, Rural Utilities Service.

[FR Doc. 2012-10747 Filed 5-3-12; 8:45 am]

BILLING CODE P